FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than November 28, 2017.

A. Federal Reserve Bank of Atlanta (Kathryn Haney, Director of Applications) 1000 Peachtree Street NE., Atlanta, Georgia 30309. Comments can also be sent electronically to Applications.Comments@atl.frb.org:

1. Southeastern Bancorp, Inc., Dickson, Tennessee, a savings and loan holding company; to become a bank holding company by acquiring voting shares of Cumberland Bancorp Inc., and thereby acquire shares of Cumberland Bank & Trust, both of Clarksville, Tennessee.

In connection with this proposal, Southeastern Bancorp, Inc., Dickson, Tennessee has applied to retain ownership of its savings association subsidiary, First Federal Bank, Dickson, Tennessee, pursuant to section 225.28(b)(4)(ii) of Regulation Y.

B. Federal Reserve Bank of Chicago (Colette A. Fried, Assistant Vice President) 230 South LaSalle Street, Chicago, Illinois 60690-1414:

1. Bank Street Capital Corporation; to become a bank holding company by acquiring 100 percent of the voting shares of Waukesha State Bank, both of Waukesha, Wisconsin.

Board of Governors of the Federal Reserve System, October 26, 2017.
Ann E. Misback,
Secretary of the Board.

[FR Doc. 2017-23682 Filed 10-30-17; 8:45 am]

BILLING CODE 6210-01-P